FEDERAL COMMUNICATIONS COMMISSION

Notice of Public Information Collection(s) Being Submitted for Review and Approval to the Office of Management and Budget (OMB), Comments Requested

April 8, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before May 14, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, 202-418-0214, Judith-B.Herman@fcc.gov.

SUPPLEMENTARY INFORMATION: OMB Control Number: 3060-0953.

Title: Sections 95.1111 and 95.1113, Wireless Medical Telemetry Service (WMTS).

Form Number: N/A.

Type of Review: Extension of a currently approved collection.

Respondents: Business or other for-profit, not-for-profit institutions, and state, local or tribal government.

Number of Respondents and Responses: 2,728 respondents; 2,728 responses.

Estimated Time per Response: 4 hours.

Frequency of Response: On occasion reporting requirement, recordkeeping requirement and third party disclosure requirement.

Obligation to Respond: Required to obtain or retain benefits. Statutory authority for this information collection is contained in 47 U.S.C. Sections 154(i), 161, 301, 302, 303(e), 303(f), 303(r), 304, 307 and 332(b).

Total Annual Burden: 10,912 hours.

Total Annual Cost: $545,000.

Privacy Act Impact Assessment: N/A.

Nature and Extent of Confidentiality: No information is requested that would require confidentiality.

Needs and Uses: The Commission will submit this expiring information collection during this comment period to the Office of Management and Budget (OMB) in order to obtain the full three year clearance from them. There is no change in the reporting, recordkeeping and/or third party disclosure requirements. However, the Commission is adjusting their burden estimates by 912 total annual hours and $45,000 in annual costs. This is due to 228 more respondents subject to these requirements.

In June 2000 the Commission adopted rules which enhance the ability of health care providers to offer high quality and cost effective care to patients with acute and chronic health care needs.

Medical telemetry equipment is used in hospitals and health care facilities to transmit patient measurement data, such as pulse and respiration rates to a nearby receiver, that permits greater patient mobility and increased comfort.

The Commission allocated spectrum to WMTS on a primary basis, which allows potentially life-critical medical telemetry equipment to operate on an interference-protected basis.

The Commission also adopted services rules for WMTS that “license by rule” meaning that users are permitted to operate WMTS equipment that complies with the rules without the need to apply for a license from the Commission.

Furthermore, the Commission adopted rules to designate a frequency coordinator, who maintains a database of all WMTS equipment.

Without the database, there would be no record of WMTS usage because WMTS transmitters are not individually licensed.

All parties using equipment in the WMTS are required to coordinate/register their operating frequency and other relevant technical operating parameters with the designated coordinator.

The database provides a record of the frequencies used by each facility or device to assist parties in selecting frequencies to avoid interference.

Without the database, there would be no record of WMTS usage because WMTS transmitters will not be individually licensed. The database is used by health care providers to plan for specific frequency use within a geographic area, especially where numerous WMTS operations may occur. The coordinator will also notify users of potential frequency conflicts.

Federal Communications Commission.
Marlene H. Dortch,
Secretary,
Office of the Secretary,
Office of Managing Director.

[FR Doc. 2010-8466 Filed 4-13-10; 8:45 am]

BILLING CODE 6712-01-S